DEPARTMENT OF HEALTH AND HUMAN SERVICES

National Institutes of Health

Center for Scientific Review; Amended Notice of Meeting

Notice is hereby given of a change in the meeting of the Environmental Determinants of Disease Study Section (EDD), June 08, 2023, 09:00 a.m. to June 09, 2023, 06:00 p.m., National Institutes of Health, Rockledge II, 6701 Rockledge Drive, Bethesda, MD, 20892 which was published in the Federal Register on May 03, 2023, 88 FR 27918 Doc 2023-09381.

This meeting is being amended to change the time from 9:00 a.m. to 6:00 p.m. to 8:30 a.m. to 8:00 p.m. The meeting is closed to the public.

Dated: May 17, 2023.
David W. Freeman,
Program Analyst, Office of Federal Advisory Committee Policy.

[FR Doc. 2023-10898 Filed 5-22-23; 8:45 am]

BILLING CODE 4140-01-P